SECURITIES AND EXCHANGE COMMISSION

17 CFR Parts 232, 239, 270, and 274

[Release Nos. 33-8823; IC-27884; File Number S7-05-07]

RIN 3235-AJ59

Extension of Interactive Data Voluntary Reporting Program on the Edgar System To Include Mutual Fund Risk/Return Summary Information

Correction

In rule document E7-13738 beginning on page 39290 in the issue of Tuesday, July 17, 2007, make the following corrections:

1. On page 39291, in the third column, in the last paragraph, in the eighth line, “Form N 1A” should read “Form N-1A”.

2. On page 39293, in the first column, in the last paragraph, in the sixth line, “Form N 1A” should read “Form N-1A”.

3. On page 39293, in the third column, in the first full paragraph, in the tenth line, “Form N 1A” should read “Form N-1A”.

§ 232.401 [Corrected]

4. On page 39299, in the second column, in § 232.401(a), in the eleventh line, “Form N 1A” should read “Form N-1A”.

5. On the same page, in the same column, in § 232.401(b)(1)(iv), in the third and fourth lines, “Form N 1A” should read “Form N-1A”.

PART 274 [Corrected]

6. On page 39300, in the third column, in amendatory instruction 8, in the second line, “Form N 1A” should read “Form N-1A”.

[FR Doc. Z7-13738 Filed 8-23-07; 8:45 am]

BILLING CODE 1505-01-D

DEPARTMENT OF THE TREASURY

Internal Revenue Service

26 CFR Part 301

[TD 9344]

1545-BG24

Change to Office to Which Notices of Nonjudical Sale and Requests for Return of Wrongfully Levied Property Must Be Sent

Correction

In rule document E7-14053 beginning on page 39737 in the issue of Friday, July 20, 2007, make the following correction:

§ 301.7425-3T [Corrected]

On page 39740, in the first column, in § 301.7425-3T(c), in the first line, “(c) Sale of perishable goodS”, should read “(c) Sale of perishable good”.

[FR Doc. Z7-14053 Filed 8-23-07; 8:45 am]

BILLING CODE 1505-01-D

DEPARTMENT OF THE TREASURY

Internal Revenue Service

26 CFR Part 1

[TD 9349]

1545-BF01

Employee Benefits - Cafeteria Plans

Correction

In rule document E7-14823 appearing on page 41891 in the issue of Wednesday, August 1, 2007, make the following correction:

On page 41891, in the second column, under the SUMMARY heading, in the sixth line “the ≤” should read “the ”.

[FR Doc. Z7-14823 Filed 8-23-07; 8:45 am]

BILLING CODE 1505-01-D